DEPARTMENT OF DEFENSE

Department of the Army

Performance Review Board Membership for the U.S. Army Office of the Surgeon General

AGENCY: Department of the Army, DoD.

ACTION: Notice.

SUMMARY: Notice is given of the names of members of a Performance Review Board for the Department of the Army.

EFFECTIVE DATE: November 13, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Office of The Surgeon General are:

1. MG Kenneth L. Farmer, Chairperson, Deputy Surgeon General.

2. Mr. Mark R. Lewis, Director, Plans, Resources and Operations, Office of the Deputy Chief of Staff, G-1.

3. Ms. Zita M. Simutis, Director, Army Research Institute.

4. Mr. Jack E. Hobbs, Project Director, Army Workload and Performance System.

Luz D. Ortiz,
Army Federal Register Liaison Officer.

[FR Doc. 03-29009 Filed 11-19-03; 8:45 am]

BILLING CODE 3710-08-M